DEPARTMENT OF HEALTH AND HUMAN SERVICES

Centers for Medicare & Medicaid Services

42 CFR Parts 405, 410, 416, 419, 424, 485, 488, and 489

Office of the Secretary

45 CFR Part 180

[CMS-1786-CN]

RIN 0938-AV09

Medicare Program: Hospital Outpatient Prospective Payment and Ambulatory Surgical Center Payment Systems; Quality Reporting Programs; Payment for Intensive Outpatient Services in Hospital Outpatient Departments, Community Mental Health Centers, Rural Health Clinics, Federally Qualified Health Centers, and Opioid Treatment Programs; Hospital Price Transparency; Changes to Community Mental Health Centers Conditions of Participation, Changes to the Inpatient Prospective Payment System Medicare Code Editor; Rural Emergency Hospital Conditions of Participation Technical Correction; Correction

AGENCY: Centers for Medicare & Medicaid Services (CMS), Department of Health and Human Services (HHS).

ACTION: Final rule with comment period; correction.

SUMMARY: This document corrects technical and typographical errors in the final rule with comment period that appeared in the Federal Register on November 22, 2023, titled “Medicare Program: Hospital Outpatient Prospective Payment and Ambulatory Surgical Center Payment Systems; Quality Reporting Programs; Payment for Intensive Outpatient Services in Hospital Outpatient Departments, Community Mental Health Centers, Rural Health Clinics, Federally Qualified Health Centers, and Opioid Treatment Programs; Hospital Price Transparency; Changes to Community Mental Health Centers Conditions of Participation, Changes to the Inpatient Prospective Payment System Medicare Code Editor; Rural Emergency Hospital Conditions of Participation Technical Correction” (referred to hereafter as the “CY 2024 OPPS/ASC final rule with comment period”).

DATES:

Effective Date: This correcting document is effective February 9, 2024.

Applicability Date: This correcting document is applicable January 1, 2024.

FOR FURTHER INFORMATION CONTACT:

Au'Sha Washington via email, Ausha.Washington@cms.hhs.gov or at (410) 786-3736.

Ambulatory Surgical Center (ASC) Payment System, contact Scott Talaga via email at Scott.Talaga@cms.hhs.gov or Mitali Dayal via email at Mitali.Dayal2@cms.hhs.gov.

Ambulatory Surgical Center Quality Reporting (ASCQR) Program policies, contact Anita Bhatia via email at Anita.Bhatia@cms.hhs.gov.

Ambulatory Surgical Center Quality Reporting (ASCQR) Program measures, contact Marsha Hertzberg via email at marsha.hertzberg@cms.hhs.gov.

Hospital Outpatient Quality Reporting (OQR) Program policies, contact Kimberly Go via email Kimberly.Go@cms.hhs.gov.

Hospital Outpatient Quality Reporting (OQR) Program measures, contact Janis Grady via email Janis.Grady@cms.hhs.gov.

Hospital Price Transparency (HPT) policies, contact Terri Postma via email PriceTransparencyHospitalCharges@cms.hhs.gov.

Medicare coverage of opioid use disorder treatment services furnished by opioid treatment programs, contact Lindsey Baldwin, (410) 786-1694, Ariana Pitcher, (667) 290-8840, or OTP_Medicare@cms.hhs.gov.

OPPS Status Indicators (SI) and Comment Indicators (CI), contact Marina Kushnirova via email at Marina.Kushnirova@cms.hhs.gov.

Rural Emergency Hospital Quality Reporting (REHQR) Program policies, contact Anita Bhatia via email at Anita.Bhatia@cms.hhs.gov.

Rural Emergency Hospital Quality Reporting (REHQR) Program measures, contact Melissa Hager via email Melissa.Hager@cms.hhs.gov.

OPPS Data (APC Weights, Conversion Factor, Copayments, Cost-to-Charge Ratios (CCRs), Data Claims, Geometric Mean Calculation, Outlier Payments, and Wage Index), contact Erick Chuang via email at Erick.Chuang@cms.hhs.gov, or Scott Talaga via email at Scott.Talaga@cms.hhs.gov or Josh McFeeters via email at Joshua.McFeeters@cms.hhs.gov.

All Other Issues Related to Hospital Outpatient Payments Not Previously Identified, contact the OPPS mailbox at OutpatientPPS@cms.hhs.gov.

All Other Issues Related to the Ambulatory Surgical Center Payments Not Previously Identified, contact the ASC mailbox at ASCPPS@cms.hhs.gov.

SUPPLEMENTARY INFORMATION:

I. Background

In FR Doc. 2023-24293 of November 22, 2023 (88 FR 81540), there were a number of technical and typographical errors that are identified and corrected in this correcting document. The corrections in this correcting document are effective as if they had been included in the document that appeared in the November 22, 2023 Federal Register. Accordingly, the corrections are effective January 1, 2024.

II. Summary of Errors

A. Summary of Errors in the Preamble

1. Hospital Outpatient Prospective Payment System (OPPS) Corrections

On pages 81546, 82156, 82157, and 82158, we are correcting the estimates of the changes in payments to account for our correction to apply the trim that we inadvertently failed to apply to claims for the Hyperbaric Oxygen Therapy APC (APC 5061). When an individual claim contains 50 or more units on the primary code's line used for ratesetting, the OPPS ratesetting programs exclude, or trim, these lines from the calculation of the geometric mean for an ambulatory payment classification (APC). However, this trim was inadvertently not included in the ratesetting process for two APCs: Hyperbaric Oxygen Therapy (APC 5061) and Ancillary Outpatient Services When Patient Dies (APC 5881). We are applying this trim and removing these lines where the primary code's units contain 50 or more units for CY 2024 OPPS ratesetting. The geometric mean cost for APC 5061 will change significantly as a result of this trim, from what was originally $75.61 to $135.89, because there is a claim for this APC that contained more than 50 units on an individual line that was originally used in CY 2024 OPPS ratesetting.

In addition, the change in the geometric mean cost for APC 5061 necessitates changing the OPPS weight scalar and OPPS relative payment weights to maintain budget neutrality for CY 2024, which results in changes in OPPS payment rates for items and services calculated using the weight scalar.

On page 81578, we are correcting the weight scalar to use the updated number calculated after correct application of the trim.

On pages 81592, 81593, and 81595, we are correcting several figures used in the sample calculations of the full national unadjusted payment rate, the reduced national unadjusted payment rate, and the adjusted copayment amount for an APC group to use the figures after application of the trim and resulting change in the payment rates.

On page 81669, we are adding additional language that we inadvertently omitted regarding HCPCS codes G2066 (Interrogation device evaluation(s), (remote) up to 30 days; implantable cardiovascular physiologic monitor system, implantable loop recorder system, or subcutaneous cardiac rhythm monitor system, remote data acquisition(s), receipt of transmissions and technician review, technical support and distribution of results), 93297 (Interrogation device evaluation(s), (remote) up to 30 days; implantable cardiovascular physiologic monitor system, including analysis of 1 or more recorded physiologic cardiovascular data elements from all internal and external sensors, analysis, review(s) and report(s) by a physician or other qualified health care professional), and 93298 (Interrogation device evaluation(s), (remote) up to 30 days; subcutaneous cardiac rhythm monitor system, including analysis of recorded heart rhythm data, analysis, review(s) and report(s) by a physician or other qualified health care professional). Specifically, we are adding language that we inadvertently omitted stating that the OPPS status indicators for CPT codes 93297 and 93298 have been revised to indicate that they will be separately payable under the OPPS.

On page 81801, in the table titled “Table 95: Skin Substitute Assignments to High-Cost and Low-Cost Groups for CY 2024”, we are correcting an inadvertent error in the skin substitute group assignment for HCPCS code Q4282 (Cygnus dual, per square centimeter) for CY 2023 and CY 2024. HCPCS code Q4282 is assigned to the high-cost skin substitute group for those years.

2. Ambulatory Surgical Center (ASC) Payment System Corrections

On pages 81958 and 82162, our application of the trim and correction to the OPPS weight scalar and OPPS relative payment weights, results in a change to the OPPS payment rates. The revised OPPS payment rates required an alteration in our estimate of prospective aggregate ASC expenditures, which in turn necessitates a correction to the ASC weight scalar and ASC relative payment weights because the ASC Payment System ratesetting methodology utilizes the scaled OPPS relative weights. Therefore, we are revising our ASC weight scalar from 0.8881 to 0.889.

3. Hospital Outpatient Quality Reporting (OQR) Program Corrections

On page 81971, we are correcting the Cataracts Visual Function measure CBE number and endorsement date. Additionally, we are replacing inadvertently included language that did not pertain to the Cataracts Visual Function measure with the measure endorsement removal information.

On page 81993, in the table titled “Table 128: Finalized Hospital OQR Program Measure Set for the CY 2026 Payment Determination,” we are adding a dagger symbol (“†”) after the Cataracts Visual Function measure name, noting that the CBE endorsement for this measure was removed. We are also adding two double dagger symbols (“††”) both following the COVID-19 Vaccination Among Health Care Personnel (HCP) measure name in Table 128 and as a table note following the table to inform readers that the CBE number was assigned to the original version of the COVID-19 Vaccination Coverage Among HCP measure but not the modified version of the measure that we finalized in the CY 2024 OPPS/ASC final rule with comment period.

On page 81994, in the table titled “Table 129: Finalized Hospital OQR Program Measure Set for the CY 2027 Payment Determination and Subsequent Years,” we are removing inadvertent language related to the HOPD Procedure Volume measure—a measure that was proposed in the CY 2024 OPPS/ASC proposed rule and not finalized after consideration of the public comments received—in the table and in the associated table note following the table. We are also adding a dagger symbol (“†”) after the Cataracts Visual Function measure name, noting that CBE endorsement for this measure was removed. We are also adding two double dagger symbols (“††”) both following the COVID-19 Vaccination Among Health Care Personnel measure name in Table 129 and as a table note following the table to inform readers that the CBE number was assigned to the original version of the COVID-19 Vaccination Coverage Among HCP measure but not the modified version of the measure that we finalized in the CY 2024 OPPS/ASC final rule with comment period.

4. Ambulatory Surgical Center Quality Reporting Program (ASCQR) Corrections

On page 82014, we are correcting the citation to the CY 2024 OPPS/ASC COVID-19 Vaccination Coverage Among HCP measure modification proposal for the ASCQR Program.

On page 82031, we are correcting the link referenced in footnote 629 and updating the footnote citation accordingly.

On page 82037, in the table titled “Table 139: Finalized ASCQR Program Measure Set for the CY 2024 Reporting Period/CY 2026 Payment Determination”, we are correcting the CBE number for the COVID-19 Vaccination Coverage Among HCP measure. We also are adding two dagger symbols (“††”) following the corrected CBE number for the COVID-19 Vaccination Among Health Care Personnel measure, and a related table note following the table associated with the two dagger symbols, to inform readers that the CBE number was assigned to the original version of the COVID-19 Vaccination Coverage Among HCP measure and not the modified version of the measure that we finalized in the CY 2024 OPPS/ASC final rule with comment period.

On page 82038, in table titled “Table 140: Finalized ASCQR Program Measure Set for the CY 2025 Payment Determination/CY 2027 Payment Determination”, we are correcting the CBE numbers for the COVID-19 Vaccination Coverage Among HCP, and the Risk-Standardized Patient-Reported Outcome-Based Performance Measure (PRO-PM) Following Elective Primary Total Hip Arthroplasty (THA) and/or Total Knee Arthroplasty (TKA) in the ASC Setting (THA/TKA PRO-PM) measures. We also are adding two dagger symbols (“††”) following the corrected CBE number for the COVID-19 Vaccination Among Health Care Personnel measure, and a related table note following the table associated with the two dagger symbols, to inform readers that the CBE number was assigned to the original version of the COVID-19 Vaccination Coverage Among HCP measure and not the modified version of the measure that we finalized in the CY 2024 OPPS/ASC final rule with comment period.

On page 82142 through 82148, we inadvertently neglected to carry over the correct number of ASCs that performed THA/TKA procedures and the average number of paid Medicare FFS claims for THA/TKA procedures performed by ASCs in CY 2022, reflected in Table 138, into our burden calculation estimates. We are correcting the estimates of the number of ASCs that will perform THA/TKA procedures and the average number of THA/TKA procedures that will be performed by ASCs for the CY 2025 through 2028 reporting periods as well as the associated burden estimates for those same reporting periods.

5. Rural Emergency Health Quality Reporting Program (REHQR) Corrections

On page 82072, in the first full paragraph, first sentence, we incorrectly stated that REHs would be granted the opportunity to review their data before the information is published during a 30-day review and corrections period in our discussion of the preview period policy and public reporting of quality data generally. We are making corrections to state that REHs would be granted the opportunity to preview their data before the information is published during a 30-day preview period. Similarly, in the following sentence, we are replacing the current reference to “preview process” to “preview period policy,” to make clear that the policy described in this paragraph would align with that of the Hospital OQR Program. We are also adding inadvertently omitted language to finalize our policies as proposed related to public reporting of quality data generally under the REHQR Program and codifying these policies at § 419.95(f).

On page 82073, we are adding inadvertently omitted language to finalize our policies as proposed related to public reporting of REHQR Program claims-based measures.

On page 82074, we are adding inadvertently omitted language to finalize our policies as proposed related to public reporting of the Median Time from ED Arrival to ED Departure for Discharged ED Patients measure.

6. Hospital Price Transparency Corrections

On pages 81545, 82081, 82082, 82084, 82085, 82088, 82097, 82113, and 82120, we made grammatical and typographical errors.

On page 81547, we made a technical error. Specifically, the summary language that we included in the CY 2024 OPPS/ASC proposed rule was not updated to reflect the hospital price transparency regulatory impact analysis that we included in the CY 2024 OPPS/ASC final rule with comment period.

On page 82081, we made a technical error in our reference to the Consolidated Appropriations Act, 2021.

On pages 82099 and 82118, we inadvertently left out the links to articles referenced in the footnotes which should be included for ease of access.

On page 82171, we made a technical error in the link included in footnote 858 such that it does not direct the reader to the article referenced.

7. Medicare Coverage for Opioid Use Disorder Treatment Services Corrections Furnished by Opioid Treatment Programs Corrections

On page 81850, in the second full sentence in the third column, the citations to the CY 2024 Physician Fee Schedule (PFS) final rule are incorrect and should have instead read 88 FR 79089 through 79093. In that same sentence, the current policy description is inaccurate. We are correcting these errors by replacing the sentence with the following: “Currently, periodic assessments are allowed to be furnished via audio-only telecommunication through CY 2023, and in the CY 2024 PFS final rule (88 FR 79089 through 79093), we finalized that periodic assessments may be furnished audio-only through the end of CY 2024, to the extent that use of audio-only communications technology is permitted under the applicable SAMHSA and DEA requirements at the time the service is furnished, and all other applicable requirements are met.”

On pages 81854, 81855 and 82162, we are making corrections to the value of the payment adjustment for IOP services furnished by OTPs due to technical corrections to the OPPS weight scalar.

B. Summary of Errors in and Corrections to the OPPS and ASC Addenda Posted on the CMS Website

1. Hospital Outpatient Prospective Payment System (OPPS) Addenda Summary of Errors

a. Errors in Addendum A

Due to the technical correction to apply a trim to lines for the primary codes for two APCs, Hyperbaric Oxygen Therapy (APC 5061) and Ancillary Outpatient Services When Patient Dies (APC 5881), which remove the resulting excluded claims from CY 2024 OPPS ratesetting, there is a significant change to the geometric mean cost for APC 5061. As there is a significant change in the payment rate for APC 5061, we had to slightly reduce the OPPS weight scalar and relative payment weights to maintain OPPS budget neutrality. This change results in a slight reduction in payment rates for other OPPS items and services calculated using the weight scalar. As a result of the technical correction to apply the trim and the associated adjustment to the weight scalar, all payment rates and copayment amounts for items and services calculated using the weight scalar have changed in Addendum A. We note that these changes to the OPPS payments and copayments are minor. The updated file is available online on the CMS website at https://www.cms.gov/medicare/payment/prospective-payment-systems/hospital-outpatient.

b. Errors in Addendum B

Due to the technical correction to apply the trim to two APCs, Hyperbaric Oxygen Therapy (APC 5061) and Ancillary Outpatient Services When Patient Dies (APC 5881), which remove the resulting excluded claims from CY 2024 OPPS ratesetting, there is a significant change to the geometric mean cost for APC 5061. As there is a significant change in the payment rate for APC 5061, we had to slightly reduce the OPPS weight scalar and relative payment weights to maintain OPPS budget neutrality. This change results in a slight reduction in payment rates for other OPPS items and services calculated using the weight scalar. This correction will require minor changes to most payment and copayment rates in Addendum B. The updated file is available online on the CMS website at https://www.cms.gov/medicare/payment/prospective-payment-systems/hospital-outpatient.

We inadvertently failed to account for the cost of a device that is an integral part of the kidney histotripsy procedure in our assignment of HCPCS code C9790 (Histotripsy (i.e., non-thermal ablation via acoustic energy delivery) of malignant renal tissue, including image guidance) to APC 1575, which has payment rate of $12,500.50 and a minimum unadjusted copayment of $2,500.10. We failed to include the cost of the device for the kidney histotripsy procedure in the payment rate that we reported for HCPCS code C9790 in the CY 2024 OPPS/ASC final rule. To correct this error, we are assigning HCPCS code C9790 to the APC with a payment rate that includes the device cost for the kidney histotripsy procedure—APC 1576—with a payment rate of $17,500.50 and a minimum unadjusted copayment of $3,500.10.

We incorrectly assigned status indicator “E1” to CPT code 90623 (Meningococcal pentavalent vaccine, conjugated Men A, C, W, Y- tetanus toxoid carrier, and Men B-FHbp, for intramuscular use), meaning the code is not covered by Medicare, even though the meningococcal vaccine has approval from the Food and Drug Administration (FDA). We are correcting the error by changing the status indicator from “E1” to “M,” to indicate that the code is not paid under the OPPS.

We incorrectly assigned HCPCS code A9272 (Wound suction, disposable, includes dressing, all accessories and components, any type, each) status indicator “E1” to indicate that the code is not covered by Medicare, even though this code is payable under the Home Health Prospective Payment System (HH PPS) effective January 1, 2024. We are correcting this error by changing the status indicator from “E1” to “A” to indicate that the code is payable under a fee schedule or payment system other than the OPPS.

We incorrectly listed HCPCS code C7561 (Debridement, bone (includes epidermis, dermis, subcutaneous tissue, muscle and/or fascia, if performed); first 20 sq cm or less with manual preparation and insertion of drug-delivery device(s), deep (e.g., subfascial)) as an active code with an OPPS status indicator of “E1” to indicate that the code is an ASC-only code that is not separately payable under the OPPS because the combined service, as described by the code, is not reasonable and necessary. However, this code already exists as HCPCS code C7500 (Debridement, bone including epidermis, dermis, subcutaneous tissue, muscle and/or fascia, if performed, first 20 sq cm or less with manual preparation and insertion of deep (e.g., subfacial) drug-delivery device(s)), and therefore this service does not require a new HCPCS code. Consequently, we are deleting HCPCS code C7561 and will not be establishing the code for the January 2024 update.

We inadvertently assigned CPT code 96202 (Multiple-family group behavior management/modification training for parent(s)/guardian(s)/caregiver(s) of patients with a mental or physical health diagnosis, administered by physician or other qualified health care professional (without the patient present), face-to-face with multiple sets of parent(s)/guardian(s)/caregiver(s); initial 60 minutes) a status indicator of “E1,” which indicates that the code is not covered by Medicare, even though this code is payable in settings other than the outpatient hospital setting. We also incorrectly assigned CPT code 96203 (Multiple-family group behavior management/modification training for parent(s)/guardian(s)/caregiver(s) of patients with a mental or physical health diagnosis, administered by physician or other qualified health care professional (without the patient present), face-to-face with multiple sets of parent(s)/guardian(s)/caregiver(s); each additional 15 minutes (list separately in addition to code for primary service)) a status indicator of “N,” which means that a service is payable in the OPPS but its cost is packaged into an associated primary service, because CPT code 96203 is an add-on code that is billed with CPT code 96202. However, an add-on service cannot have a payable status in the OPPS when its associated primary service has a non-payable status in the OPPS. These services are covered Medicare services and are assigned payable indicators under the Physician Fee Schedule (PFS). While these services are not payable under OPPS, they are payable under the PFS; therefore, we are correcting the status indicator to “A.”

c. Errors in Addendum C

Due to the technical correction to apply a trim to two APCs, Hyperbaric Oxygen Therapy (APC 5061) and Ancillary Outpatient Services When Patient Dies (APC 5881) and removing the resulting excluded claims from CY 2024 OPPS ratesetting, there is a significant change to the geometric mean cost for APC 5061. As there is a significant change in the payment rate for APC 5061, we had to slightly reduce the OPPS weight scalar and relative payment weights to maintain OPPS budget neutrality. This change results in a slight reduction in payment rates for other OPPS items and services calculated using the weight scalar. This correction will require minor changes to most payment and copayment rates in Addendum C. The updated file is available online on the CMS website at https://www.cms.gov/medicare/payment/prospective-payment-systems/hospital-outpatient.

We inadvertently failed to consider the cost of a device that is an integral part of the kidney histotripsy procedure when we assigned HCPCS code C9790 to APC 1575, which has payment rate of $12,500.50 and a minimum unadjusted copayment of $2,500.10. We failed to include the cost of the device for the kidney histotripsy procedure in the payment rate that we reported for HCPCS code C9790 in the CY 2024 OPPS/ASC final rule with comment period. To correct this error, we are assigning HCPCS code C9790 to the APC with a payment rate that includes the device cost for the kidney histotripsy procedure—APC 1576—with a payment rate of $17,500.50 and a minimum unadjusted copayment of $3,500.10.

d. Errors in Addendum P

Due to the technical correction to apply a trim to lines for the primary codes for two APCs, Hyperbaric Oxygen Therapy (APC 5061) and Ancillary Outpatient Services When Patient Dies (APC 5881), which remove the resulting excluded claims from CY 2024 OPPS ratesetting, there is a significant change to the geometric mean cost for APC 5061. As there is a significant change in the payment rate for APC 5061, we had to slightly reduce the OPPS weight scalar and relative payment weights to maintain OPPS budget neutrality. This change results in a slight reduction in payment rates for other OPPS items and services calculated using the weight scalar. The device offset amounts displayed in Addendum P are calculated by multiplying the OPPS APC payment rate by a procedure's device offset percentage, and therefore the correction to OPPS APC payment rates affects the affects the device offset amounts for any affected APCs. Therefore, we have recalculated the device offset amounts for both device-intensive and non-device-intensive procedures in Addendum P.

To view the corrected CY 2024 OPPS status indicators, APC assignments, relative weights, payment rates, copayment rates, device-intensive status, and short descriptors for Addenda A, B, C, and P that resulted from the technical corrections described in this correcting document, we refer readers to the Addenda and supporting files that are posted on the CMS website at: https://www.cms.gov/medicare/payment/prospective-payment-systems/hospital-outpatient/. Select “CMS-1786-CN” from the list of regulations. All corrected Addenda for this correcting document are contained in the zipped folder titled “2024 OPPS Final Rule Addenda” at the bottom of the page for CMS-1786-CN.

2. Ambulatory Surgical Center (ASC) Payment System Addenda Summary of Errors

a. Errors in Addendum AA

Due to the technical correction to apply a trim to lines for the primary codes for two APCs, Hyperbaric Oxygen Therapy (APC 5061) and Ancillary Outpatient Services When Patient Dies (APC 5881), which remove the resulting excluded claims from CY 2024 OPPS ratesetting, there is a significant change to the geometric mean cost for APC 5061. As there is a significant change in the payment rate for APC 5061, we had to slightly reduce the OPPS weight scalar and relative payment weights to maintain OPPS budget neutrality. This change results in a slight reduction in payment rates for other OPPS items and services calculated using the weight scalar. The correction to apply the trim to APC 5061 and the resulting change to the OPPS weight scalar, OPPS relative payment weights, and OPPS payment rates necessitate a revision to the CY 2024 ASC weight scalar and ASC payment rates, which results in changes in the columns titled “Final CY 2024 Payment Weight” and “Final CY 2024 Payment Rate” in Addendum AA to separately paid covered surgical procedures that are not paid at the PFS-equivalent rate.

We inadvertently failed to account for the cost of a device that is an integral part of the kidney histotripsy procedure when establishing a payment rate for HCPCS code C9790 (Histotripsy (i.e., non-thermal ablation via acoustic energy delivery) of malignant renal tissue, including image guidance), which has a payment weight of 127.0479 and a payment rate of $6,798.84. However, we failed to include the cost of the device for the kidney histotripsy procedure in the payment rate that we reported for HCPCS code C9790 in the CY 2024 OPPS/ASC final rule. To correct this error, we are replacing the payment weight of 127.0479 and the payment rate of $6,798.84 with the payment weight of 177.8649 and the payment rate of $9,527.91, respectively, for HCPCS code C9790 in Addendum AA.

We inadvertently omitted CPT code 0810T (Subretinal injection of a pharmacologic agent, including vitrectomy and 1 or more retinotomies) from Addendum AA. As we explained in pages 81617 through 81618 of the CY 2024 OPPS/ASC final rule with comment period, CPT code 0810T is replacing HCPCS code C9770. We are correcting this error in Addendum AA by adding CPT code 0810T (Subretinal injection of a pharmacologic agent, including vitrectomy and 1 or more retinotomies).

We inadvertently created HCPCS code C7561 (Debridement, bone (includes epidermis, dermis, subcutaneous tissue, muscle and/or fascia, if performed); first 20 sq cm or less with manual preparation and insertion of drug-delivery device(s), deep (e.g., subfascial) to describe the code pair combination of CPT code 11044 (Debridement, bone (includes epidermis, dermis, subcutaneous tissue, muscle and/or fascia, if performed); first 20 sq cm or less) and CPT code 20700 (Manual preparation and insertion of drug-delivery device(s), deep (e.g., subfascial) (list separately in addition to code for primary procedure). This code pair currently exists as HCPCS code C7500 (Debridement, bone including epidermis, dermis, subcutaneous tissue, muscle and/or fascia, if performed, first 20 sq cm or less with manual preparation and insertion of deep (e.g., subfacial) drug-delivery device(s)). Because C7500 already describes this code pair, this code pair does not require a new HCPCS code. We are correcting this error in Addenda AA and FF by adding HCPCS code C7500 and removing HCPCS code C7561.

On page 81922 of the CY 2024 OPPS/ASC final rule with comment period, we stated we would finalize a device-intensive assignment with the default device offset percentage of 31 percent and assign a payment indicator of “J8” to HCPCS code C9734 (Focused ultrasound ablation/therapeutic intervention, other than uterine leiomyomata, with magnetic resonance (mr) guidance) for CY 2024; however, in Addendum AA, we inadvertently assigned a payment indicator of “G2” to this code. Therefore, in Addendum AA, in the column titled “CY 2024 Payment Indicator,” we are replacing payment indicator “G2” with payment indicator “J8”—Device-intensive procedure; paid at adjusted rate—and are revising the ASC payment weight and payment rate to 152.9811 and $8,186.63, respectively.

On page 81921 of the CY 2024 OPPS/ASC final rule with comment period, we stated we are finalizing our proposed device offset amounts for CPT code 58356, which exceeded our device-intensive threshold of 30 percent and to which we assigned device-intensive status and a payment indicator of “J8”—Device-intensive procedure; paid at adjusted rate. However, in Addendum AA, we inadvertently assigned a payment indicator of “G2” to this code. Therefore, in Addendum AA, we are correcting the payment indicator in the column titled “CY 2024 Payment Indicator” to “J8” and are revising the payment weight and payment rate to 62.4392 and $3,341.37, respectively.

We inadvertently assigned CPT codes 0266T and 0620T and HCPCS code C9790 a discounting status of “Y” (Yes) in the column titled “Subject to Multiple Procedure Discounting”. Our multiple procedure discounting logic assigns a discounting status of “N” (No) to procedures with a status indicator “S,” which indicates that the procedure or service is separately paid and is not subject to multiple procedure discounting under the OPPS. We assigned CPT codes 0266T and 0620T and HCPCS code C9790 to status indicator “S” in OPPS Addendum B for CY 2024, and therefore, these codes should have a discounting status of “N” based on our multiple procedure discounting policy (72 FR 42513 through 42516). Therefore, we are correcting this error by deleting “Y” (Yes) and inserting “N” (No) in the column titled “Subject to Multiple Procedure Discounting,” indicating that the procedure is not subject to multiple procedure discounting, for CPT codes 0266T and 0620T and HCPCS code C9790.

b. Errors in Addendum BB

The correction to apply the trim to APC 5061 and the resulting change to the OPPS weight scalar and OPPS payment rates, necessitate a revision to the CY 2024 ASC weight scalar and ASC payment rates for certain separately paid ancillary procedures that are not paid at the PFS-equivalent rate. The correction to the ASC weight scalar and OPPS payment rates result in changes in the columns titled “Final CY 2024 Payment Weight” and “Final CY 2024 Payment Rate” in Addendum BB to separately paid ancillary procedures that are not paid at the PFS-equivalent rate.

We inadvertently assigned payment indicator “J7”—OPPS pass-through device paid separately when provided integral to a surgical procedure on ASC list; payment contractor-priced—to both HCPCS codes C1831 (Interbody cage, anterior, lateral or posterior, personalized (implantable)) and C1604 (Graft, transmural transvenous arterial bypass (implantable), with all delivery system components) as both these devices are approved OPPS pass-through devices for CY 2024. However, these devices are not separately payable under the ASC payment system for CY 2024. Accordingly, we are correcting these errors in Addendum BB by deleting “J7” in the column titled “Final CY 2024 Payment Indicator” and replacing it with “N1”—Packaged service/item; no separate payment made for both HCPCS codes C1831 and C1604.

b. Errors in Addendum FF

The correction to apply the trim to APC 5061 and the resulting change to the OPPS weight scalar and OPPS payment rates, necessitate a revision to the CY 2024 ASC weight scalar, ASC relative payment weights, and ASC payment rates and the device offset amounts/device portions for device-intensive procedures because device offset amounts are held at the OPPS rate (i.e., the OPPS payment rate multiplied by the device offset percentage) for device-intensive procedures. Further, the correction to the ASC weight scalar necessitates a correction to ASC payment rates, which requires a correction to the device offset amounts/device portions for non device-intensive procedures because the device offset amounts are held at the ASC rate (i.e., the ASC payment rate multiplied by the device offset percentage) for these procedures.

We inadvertently omitted CPT code 0810T (Subretinal injection of a pharmacologic agent, including vitrectomy and 1 or more retinotomies) from Addendum FF. As we explained in pages 81617 through 81618 of the CY 2024 OPPS/ASC final rule with comment period, we finalized our proposal to delete HCPCS code C9770 and reassign CPT code 0810T to APC 1563. We are correcting this error by adding CPT code 0810T to Addendum FF.

We inadvertently created HCPCS code C7561 (Debridement, bone (includes epidermis, dermis, subcutaneous tissue, muscle and/or fascia, if performed); first 20 sq cm or less with manual preparation and insertion of drug-delivery device(s), deep (e.g., subfascial) to describe the code pair combination of CPT code 11044 (Debridement, bone (includes epidermis, dermis, subcutaneous tissue, muscle and/or fascia, if performed); first 20 sq cm or less) and CPT code 20700 (Manual preparation and insertion of drug-delivery device(s), deep (e.g., subfascial) (list separately in addition to code for primary procedure). This code pair currently exists as HCPCS code C7500 (Debridement, bone including epidermis, dermis, subcutaneous tissue, muscle and/or fascia, if performed, first 20 sq cm or less with manual preparation and insertion of deep (e.g., subfacial) drug-delivery device(s)). Since this code pair currently is already reflected in C7500, this code pair does not require a new HCPCS code. We are correcting this error by deleting HCPCS code C7561 and adding HCPCS code C7500.

On page 81922 of the CY 2024 OPPS/ASC final rule with comment period, we stated we would finalize a device-intensive assignment with the default device offset percentage of 31 percent to HCPCS code C9734 (Focused ultrasound ablation/therapeutic intervention, other than uterine leiomyomata, with magnetic resonance (mr) guidance) for CY 2024; however, we inadvertently assigned a payment indicator of “G2”—Non office-based surgical procedure added in CY 2008 or later; payment based on OPPS relative payment weight—to HCPCS code C9734 in Addendum FF. Therefore, we are correcting the payment indicator in the column titled “Final CY 2024 Payment Indicator” for C9734 to “J8”—device-intensive procedure; paid at adjusted rate. We are also correcting the device offset percentage in the column titled “Final CY 2024 Device Offset Percentage” to 31 percent, and the device offset amount in the column titled “Final CY 2024 Device Offset Amount/Device Portion” to $3,701.33.

We inadvertently provided incorrect device offset amounts for CPT codes 0627T (Percutaneous injection of allogeneic cellular and/or tissue-based product, intervertebral disc, unilateral or bilateral injection, with fluoroscopic guidance, lumbar; first level); 0671T (Insertion of anterior segment aqueous drainage device into the trabecular meshwork, without external reservoir, and without concomitant cataract removal, one or more); 31295 (Nasal/sinus endoscopy, surgical, with dilation (e.g., balloon dilation); maxillary sinus ostium, transnasal or via canine fossa); 58356 (Endometrial cryoablation with ultrasonic guidance, including endometrial curettage, when performed); 66989 (Extracapsular cataract removal with insertion of intraocular lens prosthesis (1-stage procedure), manual or mechanical technique (e.g., irrigation and aspiration or phacoemulsification), complex, requiring devices or techniques not generally used in routine cataract surgery (e.g., iris expansion device, suture support for intraocular lens, or primary posterior capsulorrhexis) or performed on patients in the amblyogenic developmental stage; with insertion of intraocular (e.g., trabecular meshwork, supraciliary, suprachoroidal) anterior segment aqueous drainage device, without extraocular reservoir, internal approach, one or more); and 66991 (Extracapsular cataract removal with insertion of intraocular lens prosthesis (1 stage procedure), manual or mechanical technique (e.g., irrigation and aspiration or phacoemulsification); with insertion of intraocular (e.g., trabecular meshwork, supraciliary, suprachoroidal) anterior segment aqueous drainage device, without extraocular reservoir, internal approach, one or more) and HCPCS codes C9757 (Laminotomy (hemilaminectomy), with decompression of nerve root(s), including partial facetectomy, foraminotomy and excision of herniated intervertebral disc, and repair of annular defect with implantation of bone anchored annular closure device, including annular defect measurement, alignment and sizing assessment, and image guidance; 1 interspace, lumbar) and C9781 (Arthroscopy, shoulder, surgical; with implantation of subacromial spacer (e.g., balloon), includes debridement (e.g., limited or extensive), subacromial decompression, acromioplasty, and biceps tenodesis when performed).

On page 81921 of the CY 2024 OPPS/ASC final rule with comment period, we stated we are finalizing our proposed device offset percentages for these codes and displayed the final device offset percentages in Addendum FF to CY 2024 OPPS/ASC final rule with comment period. However, the device offset percentages in the addendum do not reflect these finalized device offset amounts. Therefore, we are correcting the device offset percentage in the column titled “Final CY 2024 Device Offset Percentage,” and we are correcting the device offset amount in the column titled “Final CY 2024 Device Offset Amount/Device Portion.” Further, for CPT code 58356, the corrected device offset percentage is above our device-intensive threshold and we are therefore assigning device-intensive status to CPT code 58356. In the column titled “CY 2024 Payment Indicator,” for CPT code 58356, we are replacing payment indicator “G2” with payment indicator “J8”—Device-intensive procedure; paid at adjusted rate.

To view the corrected final CY 2024 ASC payment indicators, payment weights, payment rates, and multiple procedure discounting indicators for Addenda AA, BB, and FF that resulted from these technical corrections, we refer readers to the Addenda and supporting files on the CMS website at: https://www.cms.gov/Medicare/Medicare-Fee-for-Service-Payment/ASCPayment/ASC-Regulations-and-Notices.html. Select “CMS-1786-CN” from the list of regulations. All corrected ASC addenda for this correcting document are contained in the zipped folder entitled “Addendum AA, BB, and FF” at the bottom of the page for CMS-1786-CN.

III. Waiver of Proposed Rulemaking and Delay in Effective Date

Under 5 U.S.C. 553(b) of the Administrative Procedure Act (APA), the agency is required to publish a notice of the proposed rulemaking in the Federal Register before the provisions of a rule take effect. Similarly, section 1871(b)(1) of the Act requires the Secretary to provide for notice of the proposed rulemaking in the Federal Register and provide a period of not less than 60 days for public comment. In addition, section 553(d) of the APA, and section 1871(e)(1)(B)(i) of the Act mandate a 30-day delay in effective date after issuance or publication of a rule. Sections 553(b)(B) and 553(d)(3) of the APA provide for exceptions from the notice and comment and delay in effective date APA requirements; in cases in which these exceptions apply, sections 1871(b)(2)(C) and 1871(e)(1)(B)(ii) of the Act provide exceptions from the notice and 60-day comment period and delay in effective date requirements of the Act as well. Section 553(b)(B) of the APA and section 1871(b)(2)(C) of the Act authorize an agency to dispense with normal rulemaking requirements for good cause if the agency makes a finding that the notice and comment process are impracticable, unnecessary, or contrary to the public interest. In addition, both section 553(d)(3) of the APA and section 1871(e)(1)(B)(ii) of the Act allow the agency to avoid the 30-day delay in effective date where such delay is contrary to the public interest and an agency includes a statement of support. We believe that this correction does not constitute a rule that would be subject to the notice and comment or delayed effective date requirements. This correcting document corrects technical and typographical errors in the preamble, addenda, payment rates, and tables included or referenced in the CY 2024 OPPS/ASC final rule with comment period but does not make substantive changes to the policies or payment methodologies that were adopted in the CY 2024 OPPS/ASC final rule with comment period. As a result, this correction is intended to ensure that the information in the CY 2024 OPPS/ASC final rule with comment period accurately reflects the policies adopted in that document.

In addition, even if this were a rule to which the notice and comment procedures and delayed effective date requirements applied, we find that there is good cause to waive such requirements. Undertaking further notice and comment procedures to incorporate the corrections in this document into the final rule with comment period or delaying the effective date would be contrary to the public interest because it is in the public's interest for providers to receive appropriate payments in as timely a manner as possible, and to ensure that the CY 2024 OPPS/ASC final rule with comment period reflects our policies. Furthermore, such procedures would be unnecessary, as we are not altering our payment methodologies or policies, but rather, we are simply correctly implementing the policies that we previously proposed, requested comment on, and subsequently finalized. This correcting document is intended solely to ensure that the CY 2024 OPPS/ASC final rule with comment period accurately reflects these payment methodologies and policies. For these reasons, we believe we have good cause to waive the notice and comment and delayed effective date requirements.

Moreover, even if these corrections were considered to be retroactive rulemaking, they would be authorized under section 1871(e)(1)(A)(ii) of the Act, which permits the Secretary to issue a rule for the Medicare program with retroactive effect if the failure to do so would be contrary to the public interest. As we have explained previously, we believe it would be contrary to the public interest not to implement the corrections in this final rule correction because it is in the public's interest for providers to receive appropriate payments in as timely a manner as possible, and to ensure that the CY 2024 OPPS/ASC final rule with comment period accurately reflects our policies.

IV. Correction of Errors

In FR Doc. 2023-24293 of November 22, 2023 (88 FR 81540), we are making the following corrections:

1. On page 81545, third column, first partial bulleted paragraph, lines 44 and 45, the phrase “(5) a requirement that hospitals to include a .txt file” is corrected to read “(5) a requirement that hospitals include a .txt file”.

2. On page 81546,

a. Second column, last partial paragraph, line 12, the figure “9.2” is corrected to read “9.1”.

b. Third column, first full paragraph, line 4, the figure “0.0” is corrected to read “0.1”.

3. On page 81547, first column, the paragraph under “f. Impacts of Hospital Price Transparency” is corrected in its entirety to read, “The policies we are finalizing to enhance automated access to hospital MRFs and aggregation and use of MRF data are estimated to increase burden on hospitals, including a one-time mean of $10,587.10 per hospital, and a total national cost of $75,147,236 ($10,587.10 × 7,098). The cost estimate reflects estimated costs ranging from $4,833 and $15,881 per hospital, and a total national cost ranging from $34,305,344 to $112,720,854. As discussed in detail in section XXVI of this final rule with comment period, we believe that the benefits to the public (and to hospitals themselves) outweigh the burden imposed on hospitals.”.

4. On page 81578, first column, first full paragraph, line 5, the figure “1.4429” is corrected to read “1.4414”.

5. On page 81592, third column,

a. Last paragraph under the heading “Step 7”,

(1) Line 17, the figure “$671.05” is corrected to read “$670.36”.

(2) Line 21, the figure $658.03”is corrected to read “$657.36”.

b. Last paragraph,

(1) Line 3, the figure “$402.63” is corrected to read “$402.22”.

(2) Line 4, the figure “$671.05” is corrected to read “$670.36”.

(3) Line 6, the figure “$394.82” is corrected to read “$394.42”.

(4) Line 7, the figure “$658.03” is corrected to read “$657.36”.

6. On page 81593,

a. First column, second paragraph, line 4, the equation “$546.05 ($402.63 *1.3562)” is corrected to read “$545.49 ($402.22 * 1.3562)”.

b. Second column,

(1) First partial paragraph, line 1, the figures “$535.45 ($394.82” are corrected to read “$534.91 ($394.42”.

(2) First full paragraph,

(a) Line 3, the figure “$268.42” is corrected to read “$268.14”.

(b) Line 4, the figure “$671.05” is corrected to read “$670.36”.

(c) Line 6, the figure “$263.21” is corrected to read “$262.94”.

(d) Line 7, the figure “$658.03” is corrected to read “$657.36”.

c. Third column, first full paragraph,

(1) Line 4, the figures “$814.47 ($546.05” are corrected to read “$813.63 ($545.49”.

(2) Line 5, the figure “$268.42” is corrected to read “$268.14”.

(3) Line 7, the figures “$798.66 ($535.45” are corrected to read $797.85 ($534.91”.

(4) Line 8, the figure “$263.21” is corrected to read “$262.94”.

(d) The table titled “Table 7: Final Full National Unadjusted Payment Rate and Final Reduced National Adjusted Payment Rate,” which appears near the top of the page, is corrected to read as follows:

BILLING CODE 4120-01-P

7. On page 81595, third column, second full paragraph,

a. Line 5, the figure “$134.21” is corrected to read “$134.08”.

b. Line 8, the figure “$671.05” is corrected to read “$670.36”.

8. On page 81669, third column, first full paragraph, line 7, before the sentence that reads “In addition, we did not receive any comments on our proposed APC assignment for CPT code 93296.”, add the following paragraph: “Additionally, as noted by the commenter, CPT codes 93297 and 93298 have been assigned to direct practice inputs under the PFS for 2024. However, while not mentioned by the commenter, these codes have also been designated with a global, technical, and professional indicators under the PFS for 2024. As stated in the 2024 PFS final rule (88 FR 78914), CPT code 93297 and 93298 were previously billed under HCPCS code G2066. We note that under the OPPS, HCPCS code G2066 was assigned to status indicator “Q1” (STV-Packaged Codes) and APC 5741 (Level 1 Electronic Analysis of Devices). Since G2066 was the code previously reported for CPT codes 93297 and 93298, we are assigning these codes to separately payable status under the OPPS for CY 2024. Specifically, we are assigning CPT codes 93297 and 93298 to “Q1” and APC 5741 effective January 1, 2024.”.

9. On page 81801, in the table titled “Table 95: Skin Substitute Assignments to High-Cost and Low-Cost Groups for CY 2024, in the row for HCPCS code Q4282 in the columns titled “CY 2023 High/Low Cost Assignment” and “CY 2024 High/Low Cost Assignment” the entries “Low” are corrected to read “High”.

10. On page 81850, third column, first partial paragraph, lines 18 through 31, that reads “Currently, periodic assessments are allowed to be furnished via audio-only telecommunication through CY 2023, and finalized in the CY 2024 PFS final rule (87 FR 69404; November 18, 2023) so that these services may be furnished audio-only through the end of CY 2024, to the extent that use of audio-only communications technology is permitted under the applicable SAMHSA and DEA requirements at the time the service is furnished, and all other applicable requirements are met.” are corrected to read “Currently, periodic assessments are allowed to be furnished via audio-only telecommunication through CY 2023, and in the CY 2024 PFS final rule (88 FR 79089 through 79093), we finalized that periodic assessments may be furnished audio-only through the end of CY 2024, to the extent that use of audio-only communications technology is permitted under the applicable SAMHSA and DEA requirements at the time the service is furnished, and all other applicable requirements are met.”.

11. On page 81854, second column, first partial paragraph, line 30, the figure “$778.20” is corrected to read “$777.39.”

12. On page 81855, second column,

a. Second full paragraph,

(1) Line 31, the figure “$259.40” is corrected to read “$259.13”.

(2) Line 35, the figure “$778.20” is corrected to read “$777.39”.

b. In footnote 188, line 6, the figure “$259.40” is corrected to read “$259.13”.

13. On page 81958,

a. Second column, last partial paragraph, line 7, the figure “0.8881” is corrected to read “0.889”.

b. Third column, first full paragraph, line 8, the figure “0.8881” is corrected to read “0.889”.

14. On page 81971, first column, first partial paragraph,

a. Line 20, the figure “3636” is corrected to read “1536”.

b. Lines 20 through 21, the text “July 26, 2022. The measure steward (CDC) is pursuing endorsement for the modified version of this measure.” is corrected to read “January 31, 2012. This measure's endorsement was removed in 2018.”.

15. On page 81993, in the table titled “Table 128: Finalized Hospital OQR Program Measure Set for the CY 2026 Payment Determination”,

a. Row 9, column 2, the text “Cataracts Visual Function (Previously referred to as Cataracts: Improvement in Patient's Visual Function within 90 Days Following Cataract Surgery) **” is corrected to read “Cataracts Visual Function (Previously referred to as Cataracts: Improvement in Patient's Visual Function within 90 Days Following Cataract Surgery)†**”.

b. Row 18, the text “COVID-19 Vaccination Coverage Among Health Care Personnel ****” is corrected to read “COVID-19 Vaccination Coverage Among Health Care Personnel ††****”,

c. Adding the following table note “†† This CBE endorsement number was assigned to the original version of the COVID-19 Vaccination Coverage Among Health Care Personnel measure and not the finalized modification of the measure we are finalizing in this rule.” after the first table note (†We note that CBE endorsement for this measure was removed.) and before the second table note “* In this final rule, we are finalizing our proposal to modify the Colonoscopy Follow-Up Interval measure beginning with the CY 2024 reporting period/CY 2026 payment determination.”.

16. On page 81994, the table titled “Table 129: Finalized Hospital OQR Program Measure Set for the CY 2027 Payment Determination and Subsequent Years”, is corrected to read as follows:

BILLING CODE 4120-01-P

17. On page 82014, second column, first partial paragraph, lines 1 and 2, the citation “(88 FR 49774 through 49776)” is corrected to read “(88 FR 49805 through 49807)”.

18. On page 82031, first partial footnoted paragraph (footnote 629), “Centers for Medicare and Medicaid Services Measures Inventory Tool. (n.d.). Retrieved March 28, 2023, from https://cmit.cms.gov/cmit/#/MeasureView?variantId=11547&sectionNumber=1” is corrected to read: “Centers for Medicare and Medicaid Services Measures Inventory Tool. (n.d.). Retrieved November 30, 2023, from https://cmit.cms.gov/cmit/#/MeasureView?variantId=11625&sectionNumber=1”.

19. On page 82037, in the table titled “Table 139: Finalized ASCQR Program Measures Set for the CY 2024 Reporting Period/CY 2026 Payment Determination”,

a. The entry for row 14 is corrected to read as follows:

BILLING CODE 4120-01-C

b. Add the following table note “†† This CBE endorsement number was assigned to the original version of the COVID-19 Vaccination Coverage Among Health Care Personnel measure and not the modification of the measure we are finalizing in this rule.” after the first table note († CBE endorsement was removed.) and before the second table note (* In the CY 2023 OPPS/ASC final rule with comment period (87 FR 72118 through 72120), we finalized to keep data collection and submission voluntary for this measure for the CY 2025 reporting period and subsequent years. In this final rule, we are finalizing our proposal to standardize the surveys offered to patients pre- and post-surgery beginning with the CY 2024 reporting period/CY 2026 payment determination.).

20. On page 82038, in the table titled “Table 140: Finalized ASCQR Program Measure Set for the CY 2025 Reporting Period/CY 2027 Payment Determination”,

a. The entries for rows 20 and 21 are corrected to read as follows:

b. Add the following table note “†† This CBE endorsement number was assigned to the original version of the COVID-19 Vaccination Coverage Among Health Care Personnel measure and not the modification of the measure we are finalizing in this rule.” after the first table note († CBE endorsement was removed.) and before the second table note (* In the CY 2023 OPPS/ASC final rule with comment period (87 FR 72118 through 72120), we finalized to keep data collection and submission voluntary for this measure for the CY 2025 reporting period and subsequent years.).

21. On page 82072,

a. First column, first full paragraph,

(1) Lines 3 and 4, the phrase “opportunity to review their data before the information is published” is corrected to read “opportunity to preview their data before the information is published”.

(2) Lines 5 and 6, the phrase “30-day review and corrections period (the preview process).” is corrected to read “30-day preview period.”.

(3) Lines 22 through 24, the language “This preview process would align with that of the Hospital OQR Program (81 FR 79791).” is corrected to read “This preview period policy would align with that of the Hospital OQR Program (81 FR 79791).”.

b. Third column, line 32 at the end of the second full paragraph, ending with the phrase “will be collected quarterly.”, add the following paragraph: “After consideration of the public comments we received, we are finalizing our policies as proposed related to public reporting of quality data generally under the REHQR Program and codifying these policies at § 419.95(f).”.

22. On page 82073, first column, line 2 at the end of the fourth full paragraph, ending with “Response: We thank the commenter for their support.”, add the following paragraph: “After consideration of the public comments we received, we are finalizing our policies as proposed related to public reporting of claims-based measure data under the REHQR Program.”.

23. On page 82074, first column, line 42 at the end of the first full paragraph, ending with “transfer to more appropriate care settings.”, add the following paragraph: “After consideration of the public comments we received, we are finalizing our policies as proposed related to public reporting of the Median Time from ED Arrival to ED Departure for Discharged ED Patients measure under the REHQR Program. Specifically, the following measure strata will be made publicly available: (1) Overall Rate; (2) Reported Measure; (3) Psychiatric/Mental Health Patients; and (4) Transfer Patients.”.

24. On page 82081, third column, first full paragraph,

a. Lines 32 through 33, the phrase “Consolidation Appropriations Act of 2021” is corrected to read “Consolidated Appropriations Act, 2021”.

b. Lines 37 and 38, the phrase “CY 2024 OPPS/ASC PPS proposed rule” is corrected to read “CY 2024 OPPS/ASC proposed rule”.

25. On page 82082, third column, last paragraph, line 35, the phrase “hospitals to include” is corrected to read “hospitals include”.

26. On page 82084, second column, under the heading “2. Requirement That Hospitals Affirm the Accuracy and Completeness of Their Standard Charge Information Displayed in the MRF”, line 29, the phrase “the MRF count not be certain” is corrected to read “the MRF cannot be certain”.

27. On page 82085, first column, second full paragraph, lines 34 and 35, the phrase “42 CFR 457.945), finally, a hospital” is corrected to read “42 CFR 457.945). Finally, a hospital”.

28. On page 82088, third column, first footnoted paragraph (footnote 779), line 9, the phrase “identifier779 or employer” is corrected to read “identifier or employer”.

29. On page 82097,

a. Second column, first partial paragraph, line 6, the phrase “hospitals provide” is corrected to read “hospitals to provide”.

b. Third column, first partial paragraph,

(1) Line 9, the phrase “hospitals provide” is corrected to read “hospitals to provide”.

(2) Line 25, the phrase “critical the allowed amount” is corrected to read “critical the algorithm”.

30. On page 82099, second column, first footnoted paragraph (footnote 790), add the following link to the end: https://jamanetwork.com/journals/jamanetworkopen/fullarticle/2757483.

31. On page 82113, second column, last partial paragraph, line 14, the phrase “a link includen the footer” is corrected to read “a link in the footer”.

32. On page 82118, third column, first footnoted paragraph (footnote 802), add the following link to the end: https://up-j-gemgem.ubiquityjournal.website/articles/10.5334/egems.200.

33. On page 82120, first column, first full paragraph, line 14, the phrase “CMS publicize when” is corrected to read “CMS should publicize when”.

34. On page 82142, third column, first full paragraph, lines 16 through 46, the text “We found that there were 2,381 THA/TKA ASC claims in CY 2022 with an average of 58 Medicare claims per ASC for 41 ASCs. Thus, we estimate that approximately 58 THA/TKA procedures will occur in each ASC each year, and that many patients could complete both the pre-operative and post-operative questionnaires. However, from our experience with using this measure in the Comprehensive Joint Replacement model, we are also aware that not all patients who complete the pre-operative questionnaire will complete the postoperative questionnaire. For the voluntary CYs 2025, 2026, and 2027 reporting periods, we assume 609 patients will complete the survey (58 patients × 0.50 × 21 ASCs) for a total of 74 hours annually (609 respondents × 0.120833 hours) at a cost of $1,524 (74 hours × $20.71) across all ASCs that perform these procedures. Beginning with mandatory reporting in the CY 2028 reporting period/CY 2031 payment determination, we estimate a total of 288 hours (2,381 patients × 0.120833 hours) at a cost of $5,958 (288 hours × $20.71) across all ASCs performing these procedures.” is corrected to read “We found that there were 881 ASCs which had an average of 48 THA/TKA paid Medicare FFS claims in CY 2022. Thus, we estimate that approximately 42,288 THA/TKA procedures will occur in ASCs each year, and that many patients could complete both the pre-operative and post-operative questionnaires. However, from our experience with using this measure in the Comprehensive Joint Replacement model, we are also aware that not all patients who complete the pre-operative questionnaire will complete the post-operative questionnaire. For the voluntary CYs 2025 through 2027 reporting periods, we assume 10,584 procedures of which patients can complete a survey (42,288 procedures × 0.50 survey completion rate × 50 percent ASC participation rate) for a total of 1,279 hours annually (10,584 possible surveys × 0.120833 hours per survey) at a cost of $26,486 (1,279 hours × $20.71) each year. Beginning with mandatory reporting in the CY 2028 reporting period/CY 2031 payment determination, we assume 21,144 procedures of which patients can complete a survey (42,288 procedures × 0.50 survey completion rate × 100 percent ASC participation rate) for a total of 2,555 hours annually (21,144 possible surveys × 0.120833 hours per survey) at a cost of $52,912 (2,555 hours × $20.71).”.

35. On page 82143,

a. First column, first partial paragraph,

(1) Lines 18 and 19, the figures “4 hours (0.167 hours × 21 ASCs)” is corrected to read “74 hours (0.167 hours × 441 ASCs)”.

(2) Lines 19 and 20, the figures “$182 (4 hours × $52.12)” is corrected to read “$3,831” (74 hours × $52.12)”.

(3) Line 22, the figure “7” is corrected to read “147”.

b. Second column, first partial paragraph,

(1) Line 1, the figures “(0.33 hours × 21 ASCs)” are corrected to read “(0.33 hours × 441 ASCs)”.

(2) Line 2, the figures “$365 (7 hours” are corrected to read “$7,662 (147 hours”.

(3) Line 4, the figure “10” is corrected to read “220”.

(4) Line 5, the figure “21” is corrected to read “441”.

(5) Line 6, the phrase “41 ASCs)] at a cost of $539 (10” is corrected to read “881 ASCs)] at a cost of $11,484 (220”.

(6) Line 9, the figure “14” is corrected to read “294”.

(7) Line 10, the phrase “41 ASCs) at a cost of $712 (14” is corrected to read “881 ASCs) at a cost of $15,306 (294 hours”.

c. Third column, first partial paragraph, line 4, the text “increase of 302 hours at a cost of $6,670” is corrected to read “increase of 2,849 hours at a cost of $68,218”.

d. The table titled “Table 158: “Summary of ASCQ Program Information Collection Burden Change for the CY 2025 Reporting Period/CY 2027 Payment Determination” is corrected to read as follows:

BILLING CODE 4120-01-P

36. On page 82144, the table titled “Table 159: “Summary of ASCQR Program Information Collection Burden Change for the CY 2026 Reporting Period/CY 2028 Payment Determination” is corrected to read as follows:

37. On page 82145, the table titled “Table 160: “Summary of ASCQR Program Information Collection Burden Change for the CY 2027 Reporting Period/CY 2029 Payment Determination” is corrected to read as follows:

38. On page 82146, the table titled “Table 161: “Summary of ASCQR Program Information Collection Burden Change for the CY 2028 Reporting Period/CY 2030 Payment Determination” is corrected to read as follows:

39. On page 82147, the table titled “Table 162: “Summary of ASCQR Program Information Collection Burden Change for the CY 2029 Reporting Period/CY 2031 Payment Determination” is corrected to read as follows:

40. On page 82148, the table titled “Table 163: “Summary of ASCQR Program Information Collection Burden Change for the CY 2030 Reporting Period/CY 2032 Payment Determination” is corrected to read as follows:

41. On page 82156, second column, first full paragraph,

a. Line 10, the figure “0.0” is corrected to read “0.1”.

b. Line 11, the figure “0.4” is corrected to read “0.5”.

42. On page 82157,

a. First column, second partial paragraph, line 8, the figure “2.8” is corrected to read with “3.1”.

b. Third column,

(1) First partial paragraph, line 13, the figure “9.2” is corrected to read “9.1”.

(2) First full paragraph, line 10, the figure “10” is corrected to read “9.9”.

43. On page 82158, the table titled “Table 168: Estimated Impact of the Final CY 2024 Changes for the Hospital Outpatient Prospective Payment System” is corrected to read as follows:

44. On page 82162,

a. Second column, first full paragraph, line 24, the figure “$778.20” is corrected to read “$777.39”.

b. Third column, first partial paragraph, line 2, the figure “$40,466” is corrected to read “$40,424”.

c. Third column, under “2. Estimated Effects of CY 2024 ASC

Payment System Changes”, first paragraph, line 10, the figure “0.8881” is corrected to read “0.889”.

45. On page 82168, second column, first partial paragraph, line 7, the phrase “302 hours at a cost of $6,670” is corrected to read “2,849 hours at a cost of $68,218”.

46. On page 82171, third column, in footnote 858 the link https://jamanetwork.com/journals/jamanetworkopen/fullarticle/2800088 is corrected to read “https://jamanetwork.com/journals/jamanetworkopen/fullarticle/2800083”.

Elizabeth J. Gramling,
Executive Secretary to the Department, Department of Health and Human Services.

[FR Doc. 2024-02631 Filed 2-6-24; 4:15 pm]

BILLING CODE 4120-01-C